DEPARTMENT OF ENERGY

Federal Energy Regulatory Commission

[Docket Nos. CP01-5-003 and CP03-305-000]

Algonquin Gas Transmission Company, Distrigas of Massachusetts LLC; Notice of Intent To Prepare an Environmental Impact Statement for the Proposed Everett Extension Project, and Request for Comments on Environmental Issues for the Distrigas of Massachusetts LLC Application

June 26, 2003.

A Notice of Intent to prepare and environmental assessment was sent out on March 19, 2003 for the proposed Algonquin Gas Transmission Company (Algonquin) application for authorization to construct and operate the Everett Extension Project in Suffolk County, Massachusetts. The purpose of this notice is to inform the public that based on the comments and information received during the scoping process a decision was made to prepare an environmental impact statement (EIS) on the Everett Extension Project instead of an environmental assessment. In addition, we ¹ are requesting comments on additional facilities proposed by Distrigas of Massachusetts LLC (DOMAC).

¹ “We”, “us”, and “our” refer to the environmental staff of the Office of Energy Projects (OEP).

On May 22, 2003 DOMAC filed an application for a Certification of Public Convenience and Necessity to construct facilities in Suffolk County, Massachusetts to deliver regasified liquefied natural gas (LNG) to customers through the Everett Extension Project. We will review both projects in the same EIS. This EIS will be used by the Commission in its decision-making process to determine whether the project is in the public convenience and necessity.

The applications, and other supplemental filings in these dockets are available for viewing on the FERC Internet Web site (http://www.ferc.gov). Click on the “FERRIS” link, select “General Search” from the FERRIS menu, and follow the instructions, being sure to input the correct docket numbers [CP01-5-003 (Algonquin) and CP03-305-000 (DOMAC)].

If you are a landowner receiving this notice, you may be contacted by a pipeline company representative about the acquisition of an easement to construct, operate, and maintain the proposed facilities. The pipeline company would seek to negotiate a mutually acceptable agreement. However, if the project is approved by the Commission, that approval conveys with it the right of eminent domain and under certain circumstances the pipeline company could initiate condemnation proceedings in accordance with Massachusetts law.

A fact sheet prepared by the FERC entitled “An Interstate Natural Gas Facility On My Land? What Do I Need To Know?” was attached to the project notice that Algonquin provided to landowners.

This fact sheet addresses a number of typically asked questions, including the use of eminent domain and how to participate in the Commission's proceedings. It is available for viewing on the FERC Internet Web site (http://www.ferc.gov).

Summary of the Proposed Projects

Algonquin would construct 6.64 miles of 24-inch-diameter pipeline, 0.31 miles of 8-inch-diameter pipeline, three meter stations, and appurtenant facilities. The proposal would extend the 24-inch-diameter Deer Island Lateral pipeline (approved on June 4, 2002, in Docket No. CP01-5-002, but unbuilt yet). The proposal would provide 110,000 dekatherms per day of firm transportation service.

Algonquin requests final authorization for the proposed facilities by December 15, 2003, and would construct its facilities in 2004 during the summer and fall, so that it could place the facilities in service by June 1, 2005.

DOMAC would construct a new 300-foot-long send-out line, odorant system, metering system, and reconfigure its existing vaporization equipment. The proposed facilities would be constructed within the existing boundaries of the LNG terminal. DOMAC requests that the Commission issue a final certificate by December 1, 2003, in order to provide DOMAC with an in-service date for the project in time to meet its contractual commitments to Algonquin.

The general locations of the project facilities are shown in Appendix 1.²

² The appendices referenced in this notice are not being printed in the Federal Register. Copies are available on the Commission's Web site at the “FERRIS” link or from the Commission's Public Reference and Files Maintenance Branch, 888 First Street, NE., Washington, DC 20426, or call (202) 502-8371. For instructions on connecting to FERRIS refer to the last page of this notice. Copies of the appendices were sent to all those receiving this notice in the mail.

Land Requirements for Construction

Construction of the Everett Extension Project would temporarily disturb a total of about 72.7 acres of land. This includes about 22.9 acres offshore and 36.2 acres onshore for the pipeline construction right-of-way (ROW), and 13.6 acres for extra workspace and contractor staging areas. The total land requirements for the permanent ROW would be about 14.1 acres, including 1.4 acres of land for operation of the new aboveground facilities. The remaining 58.6 acres of land affected by construction would be restored and allowed to revert to its former use.

Approximately 3.9 miles of the pipeline would be built onshore, and 3.1 miles would be offshore. The offshore construction would include about 2.3 miles of horizontal directional drilling, and about 0.8 miles of shallow water dredging. The offshore disturbance would include about 8.7 acres for trench excavation and 14.2 acres for temporarily storing the side-cast trench spoil. Algonquin states that most (69 percent) of the proposed onshore route would not require Algonquin to obtain a ROW easement, since 60 percent of the route would be located within existing roads or utility ROW, and 9 percent would be on property owned by proposed customers. Algonquin would typically use a 50-to 75-foot-wide construction ROW. Temporary extra workspaces are often needed for waterbody, highway, and railroad crossings; additional topsoil storage; and pipe storage and equipment yards.

DOMAC facilities would be constructed entirely within the existing boundaries of the LNG Plant.

The EIS Process

The National Environmental Policy Act (NEPA) requires the Commission to take into account the environmental impacts that could result from an action whenever it considers the issuance of a Certificate of Public Convenience and Necessity. NEPA also requires us to discover and address concerns the public may have about proposals. This is called “scoping”. The main goal of the scoping process is to focus the analysis in the EIS on the important environmental issues. We have already received comments on the scope of the analysis of the Everett Extension Project. By this Notice of Intent, the Commission requests public comments on the scope of the issues it will address in the EIS related to the DOMAC proposed application. All comments received are considered during the preparation of the EIS. State and local government representatives are encouraged to notify their constituents of this proposed action and encourage them to comment on their areas of concern.

The EIS will discuss impacts that could occur as a result of the construction and operation of the proposed project under these general headings:

—water resources

—wetlands

—fisheries and essential fish habitat

—vegetation and wildlife

—endangered and threatened species

—land use, recreation, and visual resources

—cultural resources

—socioeconomics

—geologic and soil resources

—air and noise quality

—reliability and safety

—system or route alternatives

—cumulative impacts

Our independent analysis of the issues will be in the EIS. The

EIS will be mailed to Federal, state, and local agencies, public interest groups, interested individuals, affected landowners, newspapers, libraries, and the Commission's official service list for this proceeding. A 45-day comment period will be allotted for review of the EIS. We will consider all comments on the EIS and revise the document, as necessary, before issuing a Final EIS. The Final EIS will include our responses to comments received and will be used by the Commission in its decision-making process to determine whether to approve the project.

To ensure your comments are considered, please carefully follow the instructions in the Public Participation section of this notice.

Currently Identified Environmental Issues

The EIS will discuss impacts that could occur as a result of the construction and operation of the proposed project. We have already identified a number of issues that deserve attention based on a preliminary review of the proposed facilities, the environmental information provided by Algonquin, and early input from intervenors.

Some of these issues are listed below. This list is preliminary and may be changed based on your comments and our analysis.

—Effect of construction on groundwater or surface water supplies;

—Potential failure of the horizontal directional drill segments, or inadvertent releases of drilling lubricant or hazardous materials during the drilling activities;

—Extent and effects of turbidity and sedimentation that may result from pipeline trenching or directional drilling in shallow waters;

—Potential fuel spills from the pipelay barges and associated vessel traffic;

—Construction and operational effects on marine and estuarine habitats that support commercial or recreational fisheries;

—Potential effects to wildlife and fisheries, including essential fish habitat and other fishery resource of concern, and other biological resources of concern;

—Potential effects on federally endangered and threatened species including the piping plover, northern right whale, humpback whale, fin whale, loggerhead sea turtle, green sea turtle, hawksbill sea turtle, Kemp's ridley sea turtle, and leatherback sea turtle;

—Potential effects to onshore and offshore submerged cultural resources;

—Noise generated as a result of pipeline construction;

—Temporary disruption of local roadways and recreational trails during construction;

—Potential effect of the project on Logan Airport operations;

—Cumulative impacts and temporal loss of habitat function from additive effects of the proposed project with other projects, including natural gas pipelines and other utilities, which have been recently constructed or are proposed to be built in the same region;

—Public safety in the vicinity of the proposed facilities.

Public Participation

You can make a difference by providing us with your specific comments or concerns about the project. By becoming a commentor, your concerns will be addressed in the EIS and considered by the Commission. You should focus on the potential environmental effects of the proposal, alternatives to the proposal (including alternative locations/routes), and measures to avoid or lessen environmental impact. The more specific your comments, the more useful they will be. Please carefully follow these instructions to ensure that your comments are received in time and properly recorded:

—Send an original and two copies of your letter to: Magalie R. Salas, Secretary, Federal Energy Regulatory Commission, 888 First St., NE., Room 1A, Washington, DC 20426.

—Label one copy of the comments for the attention of the Gas Branch 2.

—Reference Docket Nos. CP01-5-003 and CP03-305-000.

—Mail your comments so that they will be received in Washington, DC on or before July 28, 2003.

Please note that we are continuing to experience delays in mail deliveries from the U.S. Postal Service. As a result, we will include all comments that we receive within a reasonable time frame in our environmental analysis of this project. However, the Commission strongly encourages electronic filing of any comments or interventions or protests to this proceeding. See18 CFR 385.2001(a)(1)(iii) and the instructions on the Commission's Web site at http://www.ferc.gov under the “e-Filing” link and the link to the User's Guide. Before you can file comments you will need to create a free account which can be created by clicking on “Login to File” and then “New User Account.”

If you do not want to send comments at this time but still want to remain on our mailing list, please return the Information Request (Appendix 3). If you do not return the Information Request, you will be taken off the mailing list.

Becoming an Intervenor

In addition to involvement in the EIS scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see Appendix 2) ³. Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential ROW grantors.

Additional Information

Additional information about the project is available from the Commission's Office of External Affairs, at 1-866-208-FERC, or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnLineSupport@ferc,gov. The FERRIS link on the FERC Internet Web site also provides access to the texts of formal documents issued by the Commission, such as orders, notices, and rulemakings.

Magalie R. Salas,
Secretary.

[FR Doc. 03-16743 Filed 7-2-03; 8:45 am]

BILLING CODE 6717-01-P